DEPARTMENT OF STATE

[Public Notice: 7802]

Department of State Performance Review Board Members

In accordance with section 4314(c)(4) of 5 United States Code, the Department of State has appointed the following individuals to the Department of State Performance Review Board for Senior Executive Service members: Lois E. Quam, Chairperson, Executive Director for the Global Health Initiative, Office of the Secretary, Department of State; Frank A. Rose, Deputy Assistant Secretary, Bureau of Arms Control, Verification and Compliance, Department of State; Sharon L. Waxman, Senior Advisor, Office of the Under Secretary for Civilian Security, Democracy, and Human Rights, Department of State.

Dated: February 13, 2012.
Steven A. Browning,
Acting Director General of the Foreign Service and Director of Human Resources, Department of State.

[FR Doc. 2012-3788 Filed 2-16-12; 8:45 am]

BILLING CODE 4710-15-P